DEPARTMENT OF THE INTERIOR

National Park Service

[2280-665]

National Register of Historic Places; Notification of Pending Nominations and Related Actions

Nominations for the following properties being considered for listing or related actions in the National Register were received by the National Park Service before November 13, 2010. Pursuant to sections 60.13 or 60.15 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by December 28, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARIZONA

Pima County

Santa Rita Mountains, Coronado National Forest, Tucson Vicinity, 100001058

COLORADO

Lake County

Matchless Mine (Mining Industry in Colorado, MPS), E 7th Rd, Leadville, 10001088

Larimer County

Provost Homestead—Herring Farm Rural Historic Landscape, 2405 N Overland Trail, LaPorte, 10001053

INDIANA

Allen County

Fort Wayne Park and Boulevard System Historic District (Park and Boulevard System of Fort Wayne, Indiana MPS), Roughly including the following parks and adjacent right-of-way: Franke, McCormick, McCulloch, McMillen, Memorial, Fort Wayne, 10001099

Floyd County

Hedden's Grove Historic District, 1600 Blocks of Hedden Park and Hedden Court, 2410-2418 Charlestown Rd, New Albany, 10001076

William Young House, 509 W Market St, New Albany, 10001075

Jackson County

Montgomery, T. Harlan and Helen, House, 628 N Poplar St, Seymour, 10001080

Knox County

Enoco Coal Mine, N Side of Grundman Rd, 1.5 mi S of Bruceville, Bruceville, 10001100

Kosciusko County

Mock School (Indiana's Public Common and High Schools MPS), NW corner of N 550 E and E 875 N, Syracuse, 10001081

Lake County

Allman, Walter, House, 102 S E St, Crown Point, 10001077

Ibach House, 1908 Ridge Rd, Munster, 10001078

Margan—Skinner—Boyd Homestead, 111 E 73rd Ave, Merrillville, 10001079

Marion County

Plesanton in Irvington Historic District (Historic Residential Suburbs in the United States, 1830-1960 MPS), Roughly bounded by E Michigan St, Pleasant Run Pkwy, N Dr, and Emerson Ave, Indianapolis, 10001083

INDIANA

Marshall County

Chief Menominee Memorial Site, S Peach Rd, N of W 13th Rd, Plymouth, 10001082

Porter County

Valparaiso Downtown Commercial Historic District (Boundary Increase), NW block of Lincolnway and Napoleon, Valparaiso, 10001074

Steuben County

Angola Commercial Historic District, Roughly bounded by Superior, Gale, Gilmore & Martha Sts, Angola, 10001073

IOWA

Wapello County

Hofmann Building (Ottumwa MPS), 101 S Market St, Ottumwa, 10001085

North Fellows Historic District (Post-Wold War II Development in Ottumwa, IA 1944-1959 MPS), 1200 Block N Fellows St and 1204-1212 N Elm St, Ottumwa, 10001087

MARYLAND

Baltimore Independent City

Edmondson Avenue Historic District, Winchester St, Braddish Ave N of Edmondson Ave, Edmondson Ave W of Braddish Ave, Franklintown Rd N of W Franklin St, Baltimore (Independent City), 10001084

MASSACHUSETTS

Berkshire County

Lee Station, 109 Railroad St, Lee, 10001067

Suffolk County

Egleston Substation, 3025 Washington St, Boston, 10001066

Worcester County

Crossman Bridge, Gilbert Rd over Quaboag River, Warren, 10001065

MINNESOTA

Hennepin County

Cedar Square West, 1600 S Sixth St, Minneapolis, 10001090

Steele County

Minnesota State Public School for Dependent and Neglected Children, Roughly bounded by W Hills Dr, State Ave, and Florence Ave, Owatonna, 10001089

NEVADA

Lee County

East Sanford Historic District (Lee County MPS), Bounded roughly by Charlotte Ave, Goldsboro Ave, N First St, S Second St, and S Eight St, Sanford, 10001096

NEW HAMPSHIRE

Cheshire County

Shedd—Porter Memorial Library, 3 Main St, Alstead, 10001086

NORTH CAROLINA

Alamance County

Durham Hosiery Mill No. 15, 301 W Washington St, Mebane, 10001054

Glencoe School, 2649 Union Ridge Rd, Glencoe, 10001055

Buncombe County

South Montreat Road Historic District, Along Montreat Rd, 102 First St, 100 Third St, 100 Ninth St, and 101 Beech St, Black Mountain, 10001056

Davie County

Farmington Historic District, Farmington Rd, NC HWY 801 N, Cemetery Rd, Roland Rd, and Hartman Lane, Farmington, 10001059

Win-Mock Farm Dairy, 168 E Kinderton Way, Davie, 10001057

Durham County

Stokesdale Historic District (Durham MRA), Roughly bounded by Fayetteville St, Umstead St, Lawson St, Moline St, Concord St, and Dunstan St, Durham, 10001093

Guilford County

Washington Street Historic District, Portions of eight blocks on Washington, Centennial, Fourth, and Hobson Sts, Eccles Pl, and Gaylord Ct, High Point, 10001094

Haywood County

Spread Out Historic District, Roughly bounded by N Main St, Walnut St, and Beech St, Waynesville, 10001095

Wake County

Bailey—Estes House (Wake County MPS), 9020 Mangum Dairy Rd, Wake Forest, 10001097

Harris, Harwell Hamilton and Jean Bangs, House and Office (Early Modern Architecture Associated with NCSU School of Design Faculty MPS), 122 Cox Ave, Raleigh, 10001098

PENNSYLVANIA

Allegheny County

East Liberty Commercial Historic District, Roughly bounded by Penn, Sheridan, and Centre Aves and Kirkwood and S Whitfield Sts, Pittsburgh, 10001072

New Granada Theater, 2007-2013 Centre Ave, Pittsburgh, 10001071

Philadelphia County

Rittenhouse Historic District Boundary Increase, Roughly bounded by the Center City West Historic District, S 21st St, the Rittenhouse Historic District, and S 17th St, Philadelphia, 10001070

Wayne County

Patriotic Order Sons of America Washington Camp 422, 465 S Sterling Rd, Dreher Township, 10001068

Westmoreland County

Fairview Park, S side of Old PA22, approx 1.5 mi E of Delmont, Salem Township, 10001069

TENNESSEE

Putnam County

First Presbyterian Church, 20 N Dixie Ave, Cookeville, 10001060

VIRGINIA

Alleghany County

Jefferson School, A Street, Clifton Forge, 10001061

Gloucester County

Gloucester Downtown Historic District, Seven blocks of Main St from the courthouse circle to Ware House Rd, Gloucester, 10001063

Hampton Independent City

Hampton Downtown Historic District, Roughly bounded by Franklin St, Lincoln St, Settlers Landing Rd, Eaton St, Hampton (Independent City), 10001062

Shenandoah County

Bauserman Farm, 10107 South Middle Road, Mount Jackson, 10001064

WISCONSIN

Manitowoc County

GALLINIPPER Shipwreck (Schooner) (Great Lakes Shipwreck Sites of Wisconsin MPS), 9.5 E of Hika Bay Park in Lake Michigan, Centerville, 10001091

HOME Shipwreck (Schooner) (Great Lakes Shipwreck Sites of Wisconsin MPS), 9 mi NE of Hika Park in Lake Michigan, Centerville, 10001092

Related Action: Request for RELOCATION has been made for the following resource:

VIRGINIA

Newport News Independent City

Causey's Mill, 11700 Warwick Rd, Newport News (Independent City), 08000078

[FR Doc. 2010-31233 Filed 12-10-10; 8:45 am]

BILLING CODE 4312-51-P